DEPARTMENT OF EDUCATION

National Institute on Disability and Rehabilitation Research—Disability and Rehabilitation Research Projects and Centers Program—Disability and Rehabilitation Research Projects

AGENCY: Office of Special Education and Rehabilitative Services, Department of Education.

ACTION: Notice of final priority.

SUMMARY: The Assistant Secretary for Special Education and Rehabilitative Services announces a priority for the National Institute on Disability and Rehabilitation Research's (NIDRR) Disability and Rehabilitation Research Projects and Centers Program, Disability and Rehabilitation Research Projects (DRRP). This priority may be used for competitions in fiscal year (FY) 2006 and later years. We take this action to focus research attention on areas of national need. We intend this priority to improve rehabilitation services and outcomes for individuals with disabilities.

EFFECTIVE DATE: This priority is effective September 28, 2005.

FOR FURTHER INFORMATION CONTACT: Lynn Medley, U.S. Department of Education, 400 Maryland Avenue, SW., room 6027, Potomac Center Plaza, Washington, DC 20202-2700. Telephone: (202) 245-7338 or by e-mail: lynn.medley@ed.gov.

If you use a telecommunications device for the deaf (TDD), you may call the Federal Relay Service (FRS) at 1-800-877-8339.

Individuals with disabilities may obtain this document in an alternative format (e.g., Braille, large print, audiotape, or computer diskette) on request to the contact person listed under FOR FURTHER INFORMATION CONTACT.

SUPPLEMENTARY INFORMATION:

Disability and Rehabilitation Research Projects (DRRP) Program

The purpose of the DRRP program is to plan and conduct research, demonstration projects, training, and related activities that help to maximize the full inclusion and integration of individuals with disabilities into society and to improve the effectiveness of services authorized under the Rehabilitation Act of 1973, as amended (Act). An applicant for assistance under this program must demonstrate in its application how it will address, in whole or in part, the needs of individuals with disabilities from minority backgrounds (34 CFR 350.40(a)). The approaches an applicant may take to meet this requirement are found in 34 CFR 350.40(b). Additional information on the DRRP program can be found at: http://www.ed.gov/rschstat/research/pubs/res-program.html#DRRP.

We published a notice of proposed priority (NPP) for this program in the Federal Register on April 6, 2005 (70 FR 17426). We discussed our rationale and the background for proposing this priority in the NPP.

Analysis of Comments and Changes

In response to our invitation in the NPP, we received two comments. An analysis of the comments and of any changes in the priority since publication of the NPP follows. Generally, we do not address technical and other minor changes and suggested changes we are not authorized to make under the applicable statutory authority.

Comment: One commenter asked NIDRR to emphasize intervention research that investigates the benefits of specific workplace strategies that improve the employment outcomes of people with disabilities.

Discussion: NIDRR agrees that intervention research is important and is currently sponsoring employment Rehabilitation Research and Training Centers that include intervention studies and the investigation of the benefits of specific workplace strategies to improve the employment outcomes of people with disabilities. NIDRR does not believe that the current language in the priority prohibits applicants from conducting intervention studies. However, the research must focus on the demand-side perspective.

Change: None.

Comment: One commenter asked NIDRR to encourage applicants to create a plan for how their research will reach critical stakeholders, including employers.

Discussion: NIDRR agrees with the importance of reaching critical stakeholders, and is revising the priority to include a requirement for the grantee to have a plan for knowledge translation and dissemination. In addition, NIDRR plans to support separate projects that focus specifically on effective knowledge translation and dissemination strategies. These projects will work with other NIDRR grantees, including this one, to help improve outreach activities.

Change: We have revised the text of the priority to require that the studies conducted include an effective plan for knowledge translation and dissemination.

Comment: One commenter stated that the type of research proposed in the notice of proposed priority, and particularly research that includes employers as research subjects, is resource intensive and asked NIDRR to consider allowing applicants to address only three of the four required activities.

Discussion: This priority seeks to improve our understanding of demand-side issues from a variety of perspectives. There are significantly fewer studies on labor market demand-side issues associated with the employment of individuals with disabilities in comparison to studies on the supply-side of the labor market. Therefore, each of the four issues identified in the priority is critical to comprehensively addressing the demand-side perspective in the employment of individuals with disabilities.

Change: None.

Comment: One commenter asked NIDRR to consider demographic pressures and workforce trends as important factors in employment of people with disabilities.

Discussion: NIDRR agrees that demographic pressures and workforce trends are important factors for consideration in employment research. The priority allows applicants the discretion to propose studies that include relevant factors as they relate to the priority.

Change: None.

Comment: One commenter's response was directed to the listing of eight critical issues and concerns identified in the background of the priority, particularly items one through three: Changing structure of the workforce and the impact of downsizing; increased use of on-call workers, temporary help agencies, and independent contractors; and rapid advances in technology requiring the need for highly educated, highly skilled workers. The commenter characterized these issues as macroeconomic concerns and suggested that the proposed priority requirements dilute the focus of the demand-side research. Further, the commenter recommended that NIDRR emphasize studies focused on local and regional factors influencing employment.

Discussion: The priority allows applicants the discretion to propose studies examining local and regional factors influencing employment, as they relate to the priority. However, NIDRR has no basis for requiring that all applicants focus on these factors in responding to the priority. Additionally, we believe that examination of relevant economic issues and associated employment concerns can improve our understanding about employment outcomes. For this reason, we believe it is important that the priority include studies addressing critical disability employment issues, including a requirement that some aspect of the priority deal with economic issues, as they relate to the priority.

Change: None.

Note: This notice does not solicit applications. In any year in which we choose to use this priority, we invite applications through a notice in the Federal Register. When inviting applications we designate the priority as absolute, competitive preference, or invitational. The effect of each type of priority follows:

Absolute priority: Under an absolute priority, we consider only applications that meet the priority (34 CFR 75.105(c)(3)).

Competitive preference priority: Under a competitive preference priority, we give competitive preference to an application by either (1) awarding additional points, depending on how well or the extent to which the application meets the competitive priority (34 CFR 75.105(c)(2)(i)); or (2) selecting an application that meets the competitive priority over an application of comparable merit that does not meet the priority (34 CFR 75.105(c)(2)(ii)).

Invitational priority: Under an invitational priority, we are particularly interested in applications that meet the invitational priority. However, we do not give an application that meets the invitational priority a competitive or absolute preference over other applications (34 CFR 75.105(c)(1)).

Note: NIDRR supports the goals of President Bush's New Freedom Initiative (NFI). The NFI can be accessed on the Internet at the following site: http://www.whitehouse.gov/infocus/newfreedom.

The final priority is in concert with NIDRR's proposed Long-Range Plan (Plan) published in the Federal Register on July 27, 2005 (70 FR 43521). The Plan is comprehensive and integrates many issues relating to disability and rehabilitation research topics. While applicants will find many sections throughout the Plan that support potential research to be conducted under the final priority, the specific reference is in Part C, Chapter I, Section A Employment. The Plan can be accessed on the Internet at the following site: http://www.ed.gov/legislation/FedRegister/other/2005-3/072705d.html.

Through the implementation of the NFI and the Plan, NIDRR seeks to: (1) Improve the quality and utility of disability and rehabilitation research; (2) foster an exchange of expertise, information, and training to facilitate the advancement of knowledge and understanding of the unique needs of traditionally underserved populations; (3) determine best strategies and programs to improve rehabilitation outcomes for underserved populations; (4) identify research gaps; (5) identify mechanisms of integrating research and practice; and (6) disseminate findings.

Priority

The Assistant Secretary establishes a priority for one DRRP, which must focus its research on demand-side employment placement models. Studies conducted under this priority must support rigorous, empirically based research designed to develop or identify and evaluate demand-side employment placement models, methods, and measures, and include a plan for knowledge translation and dissemination.

To meet this priority, research activities and studies must identify or develop, demonstrate, and evaluate methods, models, and measures leading to the following:

(1) Psychometrically sound measures for determining employer-focused employment needs;

(2) Types of employment interventions that effectively address employer issues, including methods for increasing employer and business entity participation in the development of strategies for improving employment outcomes for individuals with disabilities;

(3) Analysis comparing the effectiveness of the demand-side model and the supply-side model and identification of the predictors of workforce participation for specific populations of individuals with disabilities using both models; and

(4) Effective measures for evaluating the role of demand-side models in relation to employment outcomes, employment data, individual and systems level outcomes, and trends across workplace environments and employment systems, including measures that involve macroeconomic, legislative, or policy issues that potentially influence employment outcomes.

Executive Order 12866

This NFP has been reviewed in accordance with Executive Order 12866. Under the terms of the order, we have assessed the potential costs and benefits of this regulatory action.

The potential costs associated with the NFP are those resulting from statutory requirements and those we have determined as necessary for administering this program effectively and efficiently.

In assessing the potential costs and benefits—both quantitative and qualitative—of this NFP, we have determined that the benefits of the final priority justify the costs.

Summary of Potential Costs and Benefits

The potential costs associated with this final priority are minimal while the benefits are significant. Grantees may anticipate costs associated with completing the application process in terms of staff time, copying, and mailing or delivery. The use of Grants.gov technology reduces mailing and copying costs significantly.

The benefits of the DRRP Program have been well established over the years in that similar projects have been completed successfully. This regulatory action will generate new knowledge through the research to be conducted under the final priority.

Another benefit of this final priority will be the establishment of a new DRRP that supports the President's NFI and will support improvements in the lives and potential employment outcomes of persons with disabilities.

Applicable Program Regulations: 34 CFR part 350.

Electronic Access to This Document

You may view this document, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

(Catalog of Federal Domestic Assistance Number 84.133A, Disability Rehabilitation Research Project)

Program Authority: 29 U.S.C. 762(g) and 764(a).

Dated: August 23, 2005.
John H. Hager,
Assistant Secretary for Special Education and Rehabilitative Services.

[FR Doc. 05-17047 Filed 8-26-05; 8:45 am]

BILLING CODE 4000-01-P